DEPARTMENT OF THE INTERIOR

Geological Survey

[GX24NN00TH3L700, OMB Control Number 1028-NEW]

Agency Information Collection Activities; Central Flyway Online Goose Harvest Assessment

AGENCY: U.S. Geological Survey, Department of the Interior.

ACTION: Notice of information collection; request for comment.

SUMMARY: In accordance with the Paperwork Reduction Act of 1995 (PRA), the U.S. Geological Survey (USGS) is proposing a new information collection.

DATES: Interested persons are invited to submit comments on or before December 26, 2023.

ADDRESSES: Send your comments on this information collection request (ICR) by mail to USGS, Information Collections Clearance Officer, 12201 Sunrise Valley Drive, MS 159, Reston, VA 20192; or by email to gs-info_collections@usgs.gov. Please reference OMB Control Number 1028-NEW Central Flyway Goose Harvest Assessment in the subject line of your comments.

FOR FURTHER INFORMATION CONTACT: To request additional information about this ICR, contact Jay VonBank by email at jvonbank@usgs.gov, or by telephone at (701) 368-0177. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA (44 U.S.C. 3501 et seq.) and 5 CFR 1320.8(d)(1), all information collections require approval. We may not conduct or sponsor, nor are you required to respond to, a collection of information unless it displays a currently valid OMB control number.

As part of our continuing effort to reduce paperwork and respondent burdens, we invite the public and other federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: To estimate the species and age composition of U.S. goose harvest, the U.S. Fish and Wildlife Service (FWS) annually conducts two separate surveys from a sample of hunters in each flyway: a Parts Collection Survey (PCS) used to identify age and species of goose and the Migratory Bird Harvest Survey (i.e., Diary Survey) to estimate the total number of geese harvested. Data from each survey are then combined post hoc to estimate species- and age-specific harvests. Harvest data are then incorporated into models to estimate population abundance for many goose species. These monitoring efforts are essential to estimating annual harvest and subsequent population size, but FWS managers have identified several potential biases that need to be addressed. Information provided by hunters via the PCS may introduce potential biases. Due to liberalization in bag limits and hunting-season lengths, as well as PCS participation fatigue, some participants only submit a subset of daily harvested waterfowl or do not request additional envelopes to continue participation once the initial supply of envelopes is exhausted (i.e., completeness bias). Thus, hunter-collected samples for the PCS are likely temporally biased toward early in the hunting season (e.g., hunters quit participating during the hunting season, or they only submit as many samples as the initial envelopes provided allow, with a decreasing number of hunters requesting additional envelopes). Therefore, fewer parts are submitted later in the season, resulting in a temporal harvest bias in addition to a quantity- and completeness bias. Our proposed study aims to integrate both surveys into one easily accessible, robust data collection platform that reduces the burden on hunters and is expected to increase participation. In an effort to develop and evaluate an additional survey to the PCS and Diary Survey that may help to alleviate the concerns outlined above, we propose the development of an online/mobile application survey platform to allow goose harvest reporting of species and age directly from hunters without the need to participate in two surveys or to collect and mail parts. We propose a short-term study within Central Flyway states on the design, implementation, comparability, and efficacy of an online survey methodology. This study will determine if such a survey is feasible to accurately estimate future goose harvests and reduce the identified biases, costs, burden, and time involved in the current PCS and Diary surveys. Understanding biases and assumptions in current harvest survey protocols has direct management implications as many goose harvest strategies are predicated on harvest and population estimates. Developing alternative methods to address these biases are necessary to ensure accurate, reliable, and increasingly precise estimates of harvest and abundance. Furthering our understanding of assumptions related to current practices and surveys will aid in improving the management process for North American goose populations.

Title of Collection: Central Flyway online goose harvest assessment.

OMB Control Number: 1028-NEW.

Form Number: None.

Type of Review: New.

Respondents/Affected Public: General Public.

Total Estimated Number of Annual Respondents: 3,552.

Total Estimated Number of Annual Responses: 4 per respondent (total of 14,208 annual responses).

Estimated Completion Time per Response: 2 minutes.

Total Estimated Number of Annual Burden Hours: 474 hours.

Respondent's Obligation: Voluntary.

Frequency of Collection: Frequency Once annually.

Total Estimated Annual Non-hour Burden Cost: None.

An agency may not conduct or sponsor, nor is a person required to respond to, a collection of information unless it displays a currently valid OMB control number.

The authority for this action is the PRA (44 U.S.C. 3501 et seq.).

Robert A Gleason,
Northern Prairie Wildlife Research Center, Center Director, Midcontinent Region, USGS.

[FR Doc. 2023-23533 Filed 10-24-23; 8:45 am]

BILLING CODE 4388-11-P